DEPARTMENT OF LABOR

Employment and Training Administration

[TA-W-72,894]

U.S. Axle Inc.: Pottstown, PA; Notice of Termination of Investigation

Pursuant to Section 223 of the Trade Act of 1974, as amended, an investigation was initiated in response to a petition filed on November 19, 2009 by a company official on behalf of workers of U.S. Axle Inc., Pottstown, Pennsylvania.

The petitioner has requested that the petition be withdrawn. Accordingly, the investigation has been terminated.

Signed at Washington, DC, this 11th day of March, 2010.
Michael W. Jaffe,
Certifying Officer, Division of Trade Adjustment Assistance.

[FR Doc. 2010-6929 Filed 3-29-10; 8:45 am]

BILLING CODE 4510-FN-P